FEDERAL COMMUNICATIONS COMMISSION

Notice of Public Information Collection(s) Being Submitted for Review to the Office of Management and Budget, Comments Requested

April 21, 2008.

SUMMARY: As part of its continuing effort to reduce paperwork burden and as required by the Paperwork Reduction Act (PRA) of 1995 (44 U.S.C. 3501-3520), the Federal Communications Commission invites the general public and other Federal agencies to comment on the following information collection(s). Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology. An agency may not conduct or sponsor a collection of information unless it displays a currently valid OMB control number. No person shall be subject to any penalty for failing to comply with a collection of information subject to the Paperwork Reduction Act that does not display a valid OMB control number.

DATES: Written PRA comments should be submitted on or before May 28, 2008. If you anticipate that you will be submitting PRA comments, but find it difficult to do so within the period of time allowed by this notice, you should advise the FCC contact listed below as soon as possible.

ADDRESSES: Submit your comments to Nicholas A. Fraser, Office of Management and Budget (e-mail address: nfraser@omb.eop.gov), and to the Federal Communications Commission's PRA mailbox (e-mail address: PRA@fcc.gov). Include in the e-mails the OMB control number of the collection as shown in the SUPPLEMENTARY INFORMATION section below or, if there is no OMB control number, the Title as shown in the SUPPLEMENTARY INFORMATION section. If you are unable to submit your comments by e-mail contact the person listed below to make alternate arrangements.

FOR FURTHER INFORMATION CONTACT: For additional information contact Leslie Smith via e-mail at PRA@fcc.gov or at (202) 418-0217. To view or obtain a copy of an information collection request (ICR) submitted to OMB: (1) Go to this OMB/GSA Web page: http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the OMB control number of the ICR you want to view (or its title if there is no OMB control number) and then click on the ICR Reference Number. A copy of the FCC submission to OMB will be displayed.

SUPPLEMENTARY INFORMATION: OMB Control Number: 3060-0056.

Title: Part 68—Connection of Terminal Equipment to the Telephone Network.

Form Number: N/A.

Type of Review: Extension without change of a currently approved collection.

Respondents: Businesses or other for-profit.

Number of Respondents and Responses: 58,520 respondents; 70,450 responses.

Estimated Time per Response: 0.05-24 hours.

Frequency of Response: On occasion reporting requirement; recordkeeping requirement; and third party disclosure requirement.

Obligation to Respond: Required to obtain or retain benefits.

Total Annual Burden: 32,027 hours.

Total Annual Cost: $1,160,000.

Privacy Act Impact Assessment: No impacts.

Nature and Extent of Confidentiality: The Commission is not requesting that the respondents submit confidential information to the FCC. Respondents may, however, request confidential treatment for information they believe to be confidential under 47 CFR 0.459 of the Commission's rules.

Needs and Uses: The purpose of 47 CFR part 68 is to protect the telephone network from certain types of harm and interference to other subscribers. To ensure that consumers, providers of telecommunications, the Administrative Council, telecommunications certification bodies (TCBs), and the Commission are able to trace products to the party responsible for warranting that terminal equipment placed on the market will not cause proscribed harms, it is essential to require manufacturers and suppliers to provide the information required by part 68. In addition, it is necessary that incumbent local exchange carriers (ILECs) provide the information in part 68 to warn their subscribers of impending disconnection of service when subscriber terminal equipment is causing telephone network harm.

Federal Communications Commission.
Marlene H. Dortch,
Secretary.

[FR Doc. E8-9093 Filed 4-25-08; 8:45 am]

BILLING CODE 6712-01-P